DEPARTMENT OF TRANSPORTATION

Office of the Secretary

Notice of Applications for Certificates of Public Convenience and Necessity and Foreign Air Carrier Permits Filed Under Subpart B (Formerly Subpart Q) During the Week Ending March 4, 2005

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2005-20491.

Date Filed: February 28, 2005.

Due Date for Answers, Conforming Applications, or Motion to Modify Scope: March 21, 2005.

Description: Application of NetJets Transportes Aereos, S.A., requesting a foreign air carrier permit authorizing it to: (a) Conduct charter air transportation of persons and property between any point or points in Portugal and any point or points in the United States; (b) conduct charter air transportation of persons and property between any point or points in the United States and any point or points in a third country or countries, provided that such service constitutes part of a continuous operation, with or without a change of aircraft, that includes service to Portugal for the purpose of carrying local traffic between Portugal and the United States; (c) conduct other charters pursuant to Part 212; and (d) exercise all other rights enumerated in the Air Transport Agreement between the United States of America and the Republic of Portugal.

Docket Number: OST-2005-20492.

Date Filed: February 28, 2005.

Due Date for Answers, Conforming Applications, or Motion to Modify Scope: March 21, 2005.

Description: Application of Executive Jet Management, Inc., requesting commuter air carrier authority to operate scheduled passenger service between the New York, NY metropolitan area and the Chicago, IL metropolitan area, and between the New York, NY metropolitan area and the Los Angeles, CA area.

Docket Number: OST-2005-20570.

Date Filed: March 4, 2005.

Due Date for Answers, Conforming Applications, or Motion to Modify Scope: March 25, 2005.

Description: Application of Tradewind Aviation, LLC, requesting a certificate of public convenience and necessity authorizing it to provide interstate charter air transportation of persons, property, and mail.

Renee V. Wright,
Acting Program Manager, Docket Operations, Alternate Federal Register Liaison.

[FR Doc. 05-5352 Filed 3-17-05; 8:45 am]

BILLING CODE 4910-62-P